DEPARTMENT OF COMMERCE

National Oceanic and Atmospheric Administration

RIN 0648-XG236

Fisheries of the South Atlantic; South Atlantic Fishery Management Council; Public Meetings

AGENCY: National Marine Fisheries Service (NMFS), National Oceanic and Atmospheric Administration (NOAA), Commerce.

ACTION: Notice of meetings.

SUMMARY: The South Atlantic Fishery Management Council (Council) will hold a series of meetings of its Citizen Science Advisory Panel Finance and Infrastructure Action Team via webinar.

DATES: The meeting via webinar will be held every other week on Wednesday at 1 p.m. starting June 13, 2018. The schedule of meetings is Wednesday, June 13; June 27; July 11; July 25; and August 22, 2018. All of the meetings will start at 1 p.m. and are scheduled to last approximately 90 minutes each. Additional Action Team meetings and plenary webinar dates and times will publish in a subsequent issue in the Federal Register.

ADDRESSES:

Meeting address: The meetings will be held via webinar and are open to members of the public. Webinar registration is required and registration links will be posted to the Citizen Science program page of the Council's website at www.safmc.net.

Council address: South Atlantic Fishery Management Council, 4055 Faber Place Drive, Suite 201, N. Charleston, SC 29405.

FOR FURTHER INFORMATION CONTACT: Amber Von Harten, Citizen Science Program Manager, SAFMC; phone: (843) 302-8433 or toll free: (866) SAFMC-10; fax: (843) 769-4520; email: amber.vonharten@safmc.net.

SUPPLEMENTARY INFORMATION: The South Atlantic Fishery Management Council (Council) created a Citizen Science Advisory Panel Pool in June 2017. The Council appointed members of the Citizen Science Advisory Panel Pool to five Action Teams in the areas of Volunteers, Data Management, Projects/Topics Management, Finance and Infrastructure, and Communication/Outreach/Education to develop program policies and operations for the Council's Citizen Science Program.

The Finance and Infrastructure Action Team will meet to continue work on developing recommendations on program policies and operations to be reviewed by the Council's Citizen Science Committee. Public comment will be accepted at the beginning of the meeting.

Items to be addressed during these meetings:

1. Discuss work on tasks in the Terms of Reference

2. Other Business

Special Accommodations

These meetings are physically accessible to people with disabilities. Requests for auxiliary aids should be directed to the Council office (see ADDRESSES) 3 days prior to the meeting.

Note: The times and sequence specified in this agenda are subject to change.

Authority: 16 U.S.C. 1801 et seq.

Dated: May 18, 2018.
Rey Israel Marquez,
Acting Deputy Director, Office of Sustainable Fisheries, National Marine Fisheries Service.

[FR Doc. 2018-11022 Filed 5-22-18; 8:45 am]

BILLING CODE 3510-22-P